SECURITIES AND EXCHANGE COMMISSION

[File No. 500-1]

In the Matter of ABC Dispensing Technologies, Inc. (n/k/a Ka Wang Holding, Inc.), Accent Color Sciences, Inc., Access Tradeone.com, Inc., ActFit.com, Inc. (n/k/a Telum International Corp.), Addison-Davis Diagnostics, Inc., Aden Enterprises, Inc., AdPads, Inc., Advanced Products Group, Inc. (n/k/a Cloudtech Sensors, Inc.), Advanced Recycling Sciences, Inc., Advanced Systems International, Inc., Aero Group, Inc., and Alford Refrigerated Warehouses, Inc.; Order of Suspension of Trading

January 4, 2008.

It appears to the Securities and Exchange Commission that there is a lack of current and accurate information concerning the securities of ABC Dispensing Technologies, Inc. (n/k/a Ka Wang Holding, Inc.) because it has not filed any periodic reports since the period ended July 31, 2001.

It appears to the Securities and Exchange Commission that there is a lack of current and accurate information concerning the securities of Accent Color Sciences, Inc. because it has not filed any periodic reports since the period ended June 29, 2001.

It appears to the Securities and Exchange Commission that there is a lack of current and accurate information concerning the securities of Access Tradeone.com, Inc. because it has not filed any periodic reports since November 2, 1999.

It appears to the Securities and Exchange Commission that there is a lack of current and accurate information concerning the securities of ActFit.com, Inc. because it has not filed any periodic reports since the period ended December 31, 2001.

It appears to the Securities and Exchange Commission that there is a lack of current and accurate information concerning the securities of Addison-Davis Diagnostics, Inc. because it has not filed any periodic reports since the period ended March 31, 2006.

It appears to the Securities and Exchange Commission that there is a lack of current and accurate information concerning the securities of Aden Enterprises, Inc. because it has not filed any periodic reports since the period ended January 31, 2000.

It appears to the Securities and Exchange Commission that there is a lack of current and accurate information concerning the securities of AdPads, Inc. because it has not filed any periodic reports since September 30, 2002.

It appears to the Securities and Exchange Commission that there is a lack of current and accurate information concerning the securities of Advanced Products Group, Inc. (n/k/a Cloudtech Sensors, Inc.) because it has not filed any periodic reports since December 31, 2000.

It appears to the Securities and Exchange Commission that there is a lack of current and accurate information concerning the securities of Advanced Recycling Sciences, Inc. because it has not filed any periodic reports since the period ended March 31, 2003.

It appears to the Securities and Exchange Commission that there is a lack of current and accurate information concerning the securities of Advanced Systems International, Inc. because it has not filed any periodic reports since the period ended September 30, 2001.

It appears to the Securities and Exchange Commission that there is a lack of current and accurate information concerning the securities of Aero Group, Inc. because it has not filed any periodic reports since the period ended September 30, 2001.

It appears to the Securities and Exchange Commission that there is a lack of current and accurate information concerning the securities of Alford Refrigerated Warehouses, Inc. because it has not filed any periodic reports since the period ended September 30, 2000.

The Commission is of the opinion that the public interest andd the protection of investors require a suspension of trading in the securities of the above-listed companies.

Therefore, it is ordered, pursuant to Section 12(k) of the Securities Exchange Act of 1934, that trading in the above-listed companies is suspended for the period from 9:30 a.m. EST on January 4, 2008, through 11:59 p.m. EST on January 17, 2008.

By the Commission.
Nancy M. Morris,
Secretary.

[FR Doc. 08-38 Filed 1-4-08; 1:38 pm]

BILLING CODE 8011-01-M